DEPARTMENT OF COMMERCE

Submission for OMB Review; Comment Request

The Department of Commerce will submit to the Office of Management and Budget (OMB) for clearance the following proposal for collection of information under the emergency provisions of the Paperwork Reduction Act (44 U.S.C. Chapter 35).

AGENCY: National Telecommunications and Information Administration (NTIA).

Title: Certification for Retailers to Accept and Redeem Coupons for the Purchase of a Digital-to-Analog Converter Box.

OMB Approval Number: 0660-0020.

Agency Form Number: DTV-1.

Type of Request: Emergency submission.

Burden Hours: 2,000.

Average Time per Response: 30 minutes.

Number of Respondents: 4,000.

Needs and Uses: The National Telecommunications and Information Administration (NTIA) proposes to add additional questions to the retailer certification form for the digital-to-analog converter box coupon program. In March 2007, NTIA published a Final Rule that outlined the parameters of the coupon program for consumers, retailers, and manufacturers.¹ As part of that rulemaking, NTIA discussed its information requirements for consumers, manufacturers and retailers.² NTIA received approval from OMB on its information collection certification for retailers, but has determined that additional information is needed to ensure that the program is run efficiently.

¹ See Rules to Implement and Administer a Coupon Program for Digital-to-Analog Converter Boxes (Final Rule), 72 FR 12097 (March 15, 2007).

² Id. at p. 12113.

The additional information required from retailers will ensure, among other things, that: (1) Retailers are timely reimbursed; (2) there is consumer information regarding the availability of converter boxes; (3) retailers are complying with program regulations; (4) there is information available as to the geographic location of converter boxes; and (5) the program is able to minimize waste, fraud, and abuse.

An agreement will be on a retailer Web site that will enable retailers to provide the information previously approved by OMB as part of the information collection. This agreement, which is also available to retailers in a hard copy format, also requires additional information from retailers.

Affected Public: Business and other for-profit organizations.

Respondent's Obligation: Voluntary.

OMB Desk Officer: Jasmeet K. Seehra, (202) 395-3123.

Copies of the above information collection proposal can be obtained by calling or writing Diana Hynek, Departmental Paperwork Clearance Officer, (202) 482-0266, Department of Commerce, Room 6625, 14th and Constitution Avenue, NW., Washington, DC 20230.

Written comments and recommendations for the proposed information collection should be sent by November 14, 2007 to Jasmeet K. Seehra, OMB Desk Officer, FAX number (202) 395-5167 or via the Internet at Jasmeet_K._Seehra@omb.eop.gov.

Dated: November 5, 2007.
Gwellnar Banks,
Management Analyst, Office of the Chief Information Officer.

[FR Doc. E7-21944 Filed 11-7-07; 8:45 am]

BILLING CODE 3510-60-P